DEPARTMENT OF HEALTH AND HUMAN SERVICES

National Institutes of Health

Center for Scientific Review; Amended Notice of Meeting

Notice is hereby given of a change in the meeting of the Macromolecular Structure and Function A Study Section, June 4, 2007, 8 a.m. to June 5 2007, 5 p.m., George Washington University Inn, 824 New Hampshire Ave., NW., Washington, DC 20037 which was published in the Federal Register on April 5, 2007, 72 FR 16804.

The meeting will be held on June 4, 2007, 8 a.m. to 6 p.m. The meeting location remains the same. The meeting is closed to the public.

Dated: May 2, 2007.
Jennifer Spaeth,
Director, Office of Federal Advisory Committee Policy.

[FR Doc. 07-2295 Filed 5-8-07; 8:45 am]

BILLING CODE 4140-01-M